DEPARTMENT OF THE INTERIOR

Fish and Wildlife Service

[Docket No. FWS-HQ-IA-2014-0018; FF09A1000-145-FXIA16710900000]

Conference of the Parties to the Convention on International Trade in Endangered Species of Wild Fauna and Flora (CITES); Seventeenth Regular Meeting: Taxa Being Considered for Amendments to the CITES Appendices

AGENCY: Fish and Wildlife Service, Interior.

ACTION: Notice.

SUMMARY: The United States, as a Party to the Convention on International Trade in Endangered Species of Wild Fauna and Flora (CITES), may propose amendments to the CITES Appendices for consideration at meetings of the Conference of the Parties. The seventeenth regular meeting of the Conference of the Parties to CITES (CoP17) is scheduled to be held in South Africa, September 24 to October 5, 2016. With this notice, we describe proposed amendments to the CITES Appendices (species proposals) that the United States might submit for consideration at CoP17 and invite your comments and information on these proposals.

DATES: We will consider written information and comments we receive by October 26, 2015.

ADDRESSES: You may submit comments pertaining to species proposals for consideration at CoP17 by one of the following methods:

• Federal eRulemaking Portal: http://www.regulations.gov. Follow the instructions for submitting comments on Docket No. FWS-HQ-IA-2014-0018.

• U.S. mail or hand-delivery: Public Comments Processing, Attn: FWS-HQ-IA-2014-0018; Division of Policy, Performance, and Management Programs; U.S. Fish and Wildlife Service; 5275 Leesburg Pike, MS: BPHC; Falls Church, VA 22041-3803.

We will not consider comments sent by email or fax or to an address not listed in ADDRESSES. We will post all comments on http://www.regulations.gov. This generally means that we will post any personal information you provide us. If you submit a comment via http://www.regulations.gov, your entire comment—including any personal identifying information—will be posted on the Web site. If you submit a hardcopy comment that includes personal identifying information, you may request at the top of your document that we withhold this information from public review. However, we cannot guarantee that we will be able to do so. We will post all hardcopy comments on http://www.regulations.gov.

Comments and materials we receive in response to this notice will be available for public inspection on http://www.regulations.gov, or by appointment between 8 a.m. and 4 p.m., Monday through Friday, except Federal holidays, at the U.S. Fish and Wildlife Service, Division of Scientific Authority, 5275 Leesburg Pike, MS: IA, Falls Church, VA 22041-3803; phone 703-358-1708.

FOR FURTHER INFORMATION CONTACT: Rosemarie Gnam Ph.D., Chief, Division of Scientific Authority, U.S. Fish and Wildlife Service, at 703-358-1708 (phone), 703-358-2276 (fax), or scientificauthority@fws.gov (email). If you use a telecommunications device for the deaf (TDD), call the Federal Information Relay Service (FIRS) at 800-877-8339.

SUPPLEMENTARY INFORMATION:

Background

The Convention on International Trade in Endangered Species of Wild Fauna and Flora, hereinafter referred to as CITES or the Convention, is an international treaty designed to control and regulate international trade in certain animal and plant species that are affected by trade and are now, or potentially may become, threatened with extinction. These species are included in the Appendices to CITES, which are available on the CITES Secretariat's Web site at www.cites.org. Currently, 181 Parties, including the United States, have joined CITES. The Convention calls for regular biennial meetings of the Conference of the Parties, unless the Conference decides otherwise, and meetings are typically held every 2 to 3 years. At these meetings, the Parties review the implementation of CITES, make provisions enabling the CITES Secretariat in Switzerland to carry out its functions, consider amendments to the list of species in Appendices I and II, consider reports presented by the Secretariat, and make recommendations for the improved effectiveness of CITES. Any country that is a Party to CITES may propose amendments to Appendices I and II, as well as resolutions, decisions, and agenda items for consideration by all the Parties.

This is our third in a series of Federal Register notices that, together with an announced public meeting (time and place to be announced), provide you with an opportunity to participate in the development of the U.S. submissions and negotiating positions for the seventeenth regular meeting of the Conference of the Parties to CITES (CoP17), which is scheduled to be held in South Africa, from September 24 to October 5, 2016. We published our first CoP17-related Federal Register notice on June 27, 2014 (79 FR 36550), in which we requested information and recommendations on animal and plant species proposals for the United States to consider submitting for consideration at CoP17. You may obtain information on that Federal Register notice from the Division of Scientific Authority at the address provided in FOR FURTHER INFORMATION CONTACT above. We published our second CoP17-related Federal Register notice on May 11, 2015 (80 FR 26948), in which we requested information and recommendations on resolutions, decisions, and agenda items that the United States might consider submitting for discussion at CoP17, and provided preliminary information on how to request approved observer status for national nongovernmental organizations within the United States that wish to attend the meeting. Comments received on that notice may be viewed at http://www.regulations.gov at Docket No. FWS-HQ-IA-2014-0018. You may obtain information on that Federal Register notice by contacting Craig Hoover, Chief, Wildlife Trade and Conservation Branch, Division of Management Authority, U.S. Fish and Wildlife Service, at 703-358-2095 (phone), 703-358-2298 (fax), or managementauthority@fws.gov (email). Our regulations governing this public process are found in title 50 of the Code of Federal Regulations (CFR) at § 23.87.

Recommendations for Species Proposals for the United States to Consider Submitting for CoP17

In our Federal Register notice of June 27, 2014 (79 FR 36550), we requested information and recommendations on potential species proposals for the United States to consider submitting for consideration at CoP17. We received recommendations from 22 individuals and the following organizations for possible proposals involving 80 taxa (2 families, 6 genera, 70 individual species, and 2 general groups (U.S. and foreign softshell turtles and North American map turtles)): the American Herbal Products Association (AHPA); Center for Biological Diversity (CBD); Earthtrust; Ginseng Board of Wisconsin (GBW); Hsu's Ginseng Enterprises, Inc. (HGE); Humane Society International (HSI); International Fund for Animal Welfare (IFAW); International Union for Conservation of Nature-Species Survival Commission (IUCN-SSC) Tortoise and Freshwater Turtle Specialist Group; Natural Resources Defense Council (NRDC); Pew Environment Group (PEG); Species Survival Network (SSN); United Plant Savers (UPS); Wildlife Conservation Society (WCS); and World Wildlife Fund (WWF)/TRAFFIC. We also received general comments from individual commenters for CITES protections on the following species: 7 on rhinoceroses, elephants, and lions; 44 on elephants; 39 on rhinoceroses; and 29,738 on polar bears, pangolins, nautiluses, snapping and map turtles, walruses, sea cucumbers, and seahorses. Additionally, the United States may submit proposals on six animal species, one plant species, and one plant genus currently under periodic review by the CITES technical committees, and is undecided about submitting proposals regarding four bird species based on recent taxonomic changes.

We have undertaken initial assessments of the available trade and biological information on all of these taxa. Based on these assessments, we made provisional evaluations of whether to proceed with the development of proposals for species to be included in, removed from, or transferred between the CITES Appendices. We made these evaluations by considering the biological and trade information available on the species; the presence, absence, and effectiveness of other mechanisms that may preclude the need for species' inclusion in the CITES Appendices (e.g., range country actions or other international agreements); and availability of resources. We have also considered the following factors, as per the U.S. approach for CoP17 discussed in our June 27, 2014, Federal Register notice:

(1) Does the proposed action address a serious wildlife or plant trade issue that the United States is experiencing as a range country for species in trade?

(2) Does the proposed action address a serious wildlife or plant trade issue for species not native to the United States?

(3) Does the proposed action provide additional conservation benefit for a species already covered by another international agreement?

Based on our initial assessments, we have assigned each taxon to one of three categories, which reflects the likelihood of our submitting a proposal. In sections A, B, and C below, we have listed the current status of each species proposal recommended by the public, as well as species proposals we have been developing on our own. Please note that we have only provided here a list of taxa and the proposed action. We have posted an extended version of this notice on our Web site at http://www.fws.gov/international/publications-and-media/federal-register-notices.html, with text describing in more detail each proposed action and explaining the rationale for the tentative U.S. position on each possible proposal. Copies of the extended version of the notice are also available from the Division of Scientific Authority at the above address or at www.regulations.gov at Docket No. FWS-HQ-IA-2014-0018.

We welcome your comments, especially if you are able to provide any additional biological or trade information on these species. For each species, more detailed information is on file in the Division of Scientific Authority.

A. What species proposals is the United States likely to submit for consideration at CoP17?

The United States is likely to develop and submit proposals for the following taxa. Most of the taxa in this section are undergoing periodic review of the CITES Appendices by the Animals Committee (AC) and Plants Committee (PC), in accordance with Resolution Conf. 14.8 (Rev. CoP16). This is a regular process under CITES to evaluate whether listings of taxa in CITES Appendices I and II continue to be appropriate, based on current biological and trade information. These taxa are at various stages in the periodic review process. This process includes an initial assessment that is put before the appropriate Committee (Plants or Animals) for discussion, which may result in an AC or PC recommendation that a taxon be uplisted (transferred from Appendix II to Appendix I); or downlisted (transferred from Appendix I to Appendix II, or deleted from Appendix II); or that no change be made to the listing.

Plants

1. Saw-toothed Lewisia (Lewisia serrata)—Potential amendment to Appendix-II listing

2. Fishhook cactus (Sclerocactus spp.)—Potential amendments to Appendix-I and Appendix-II listings

Invertebrates

3. Wabash riffleshell (Epioblasma sampsonii)—Potential amendment to Appendix-I listing

Reptiles

4. Puerto Rican boa (Epicrates inornatus)—Amendment to Appendix-I listing

Mammals

5. Caribbean monk seal (Monachus tropicalis)—Potential amendment to Appendix-I listing

6. Guam flying-fox (Pteropus tokudae)—Potential amendment to Appendix-II listing

7. Eastern cougar (Puma concolor couguar) and Florida panther (P. concolor coryi)—Potential amendments to Appendix I listings—Potential amendments to Appendix-II listings

8. Polar bear (Ursus maritimus)—Transfer from Appendix II to Appendix I

B. On what species proposals is the United States still undecided, pending additional information and consultations?

The United States is still undecided on whether to submit proposals for CoP17 for the following taxa. In most cases, we have not completed our consultations with relevant range countries. In other cases, we expect meetings to occur in the immediate future, at which participants will generate important recommendations, trade analyses, or biological information on the taxon in question that may be useful to our final decision-making.

Invertebrates

1. Sea cucumbers native to the United States: Pepino de mar (Actinopyga agassizii), Deep-water redfish (A. echinites), Stonefish (A. lecanora), Surf redfish (A. mauritiana), Blackfish (A. miliaris), Giant California sea cucumber (Apostichopus californicus), Warty sea cucumber (A. parvimensis), Furry sea cucumber (Astichopus multifidus), Leopard fish (Bohadschia argus), Brown sandfish (B. vitiensis), Orange-footed sea cucumber (Cucumaria frondosa), Tripang (Holothuria arenicola), Lollyfish (H. atra), Zanga fleur (H. cinerascens), Snakefish (H. coluber), Pinkfish (H. edulis), Red snakefish (H. flavomaculata), Labuyo (H. fuscocinerea), White teatfish (H. fuscogilva), Elephant trunkfish (H. fuscopunctata), Tiger tail (H. hilla), Spotted sea cucumber (H. impatiens), Golden sandfish (H. lessoni), White threadfish (H. leucospilota), Pepino de mar (H. mexicana), Bantunan (H. pardalis), “Unknown” (H. pervicax), Black teatfish (H. whitmaei), Four-sided sea cucumber (Isostichopus badionotus), Blackspotted sea cucumber (Pearsonothuria graeffei), Greenfish (Stichopus chloronotus), Curryfish (S. herrmanni), Selenka's sea cucumber (S. horrens), Prickly redfish (Thelenota ananas), Amber fish (T. anax), and Lemonfish (T. rubralineata)—Inclusion in Appendix II

2. Chambered nautiluses (Allonautilus spp. and Nautilus spp.)—Inclusion in Appendix II

3. Red and pink corals (Corallium spp. and Paracorallium spp.)—Inclusion in Appendix II

Fishes

4. American eel (Anguilla rostrata)—Inclusion in Appendix II

5. Lined seahorse (Hippocampus erectus)—Transfer from Appendix II to Appendix I

6. Dwarf seahorse (Hippocampus zosterae)—Transfer from Appendix II to Appendix I

7. Devil rays (Mobula spp.): Pygmy devil ray (M. eregoodootenkee), Atlantic devil ray (M. hypostoma), Spinetail devil ray (M. japanica), Shortfin devil ray (M. kuhlii), Giant devil ray (M. mobular), Smoothtail devil ray (M. munkiana), Lesser Guinean devil ray (M. rochebrunei), Sicklefin devil ray (M. tarapacana), and Smoothtail devil ray (M. thurstoni))—Inclusion in Appendix II

Reptiles

8. Chaco side-necked turtle (Acanthochelys pallidipectoris)—Inclusion in Appendix II or Appendix I

9. African and Middle Eastern softshell turtles in the family Trionychidae: Aubry's flapshell turtle (Cycloderma aubryi); Zambezi flapshell turtle (C. frenatum); Nubian flapshell turtle (Cyclanorbis elegans); Senegal flapshell turtle (C. senegalensis); Euphrates softshell turtle (Rafetus euphraticus); and African or Nile softshell turtle (Trionyx triunguis)—Inclusion in Appendix II

10. African pygmy chameleons (Rhampholeon spp. and Rieppeleon spp): Mount Gorongosa pygmy chameleon (Rhampholeon gorongosae), Marshall's pygmy chameleon (R. marshalli), Cameroon stumptail chameleon (R. spectrum), East Usambara pygmy chameleon (R. temporalis), Rare (Green) pygmy chameleon (R. viridis), Nguru spiny pygmy chameleon (R. acuminatus), Beraducci's pygmy chameleon (R. beraduccii), Boulenger's pygmy chameleon (R. boulangeri), Chapman's pygmy chameleon (R. chapmanorum), Udzungwa pygmy chameleon (R. moyeri), Nchisi pygmy chameleon (R. nchisiensis), Mulanje pygmy chameleon (R. platyceps), Uluguru pygmy chameleon (R. uluguruensis), Mount Inago pygmy chameleon (R. bruessoworum), Mount Namuli pygmy chameleon (R. tilburyi), Mount Chiperone pygmy chameleon (R. nebulauctor), Mount Mabu pygmy chameleon (R. maspictus), Zomba pygmy chameleon (Rieppeleon brachyurus), Bearded pygmy chameleon (R. brevicaudatus), Kenya leaf chameleon (R. kerstenii)—Inclusion in Appendix II

Birds

11. Four Indo-Pacific bird species: Loria's bird-of-paradise (Cnemophilus loriae), Crested bird-of-paradise (C. macgregorii), Yellow-breasted bird-of-paradise (Loboparadisea sericea), and Macgregor's bird-of-paradise (Macgregoria pulchra)—Removal from Appendix II

12. African grey parrot (Psittacus erithacus)—Transfer from Appendix II to Appendix I

Mammals

13. Pangolins (Manis spp.)—Transfer from Appendix II to Appendix I

14. Narwhal (Monodon monoceros)—Transfer from Appendix II to Appendix I

15. African lion (Panthera leo leo)—Transfer from Appendix II to Appendix I

C. What species proposals is the United States not likely to submit for consideration at CoP17, unless we receive significant additional information?

The United States does not intend to submit proposals for the following taxa unless we receive significant additional information indicating that a proposal is warranted. As described further in the extended version of this notice on our Web site, information currently available for each of the taxa listed below does not support a proposal.

Plants

1. Goldenseal (Hydrastis canadensis)—Removal from Appendix II

2. American ginseng (Panax quinquefolius)—Amendment of the Appendix-II listing annotation to exclude sliced roots from CITES control

3. Hawaiian sandalwoods (Santalum spp.)—Inclusion in Appendix II

Invertebrates

4. Sea cucumbers not native to the United States: Deepwater blackfish (Actinopyga palauensis), Burying blackfish (A. spinea), Japanese sea cucumber (Apostichopus japonicas), Brown-spotted sandfish (Bohadschia marmorata), Falalyjaka (B. subrubra), Japanese cucumaria (Cucumaria japonica), Black teatfish (Holothuria nobilis), Sandfish (H. scabra), Selenka's sea cucumber (Stichopus monotuberculatus), Selenka's sea cucumber (S. naso)—Inclusion in Appendix II

Fishes

5. Thresher sharks (Alopias spp.): Bigeye thresher shark (A. pelagicus), Pelagic thresher shark A. superciliosus), Common thresher shark (A. vulpinus)—Inclusion in Appendix II

6. Dusky shark (Carcharhinus obscurus)—Inclusion in Appendix II

7. Silky shark (Carcharhinus falciformis)—Inclusion in Appendix II

8. Mako sharks: Longfin mako shark (Isurus oxyrinchus) and shortfin mako shark (I. paucus)—Inclusion in Appendix II

9. Blue shark (Prionace glauca)—Inclusion in Appendix II

10. Hammerhead sharks (Sphyrnidae Family): Winghead shark (Eusphyra blochii), Scalloped bonnethead (Sphyrna corona), Whitefin hammerhead (S. couardi), Scoophead shark (S. media), Bonnethead shark (S. tiburo), Smalleye hammerhead shark (S. tudes)—Inclusion in Appendix II

11. Humphead wrasse (Cheilinus undulatus)—Transfer from Appendix II to Appendix I

Reptiles

12. North American softshell turtles in the Genus Apalone: Spiny softshell (A. spinifera, including 6 subsp.*); Smooth softshell (A. mutica, including 2 subsp.); and Florida softshell (A. ferox)—Inclusion in Appendix II [* excluding A.s. atra, which is in Appendix I and found in Mexico]

13. North American map turtles (Graptemys spp.): Barbour's map turtle (G. barbouri); Cagle's map turtle (G. caglei); Escambia map turtle (G. ernsti); Yellow-blotched map turtle (G. flavimaculata); Northern map turtle (G. geographica); Pascagoula map turtle (G. gibbonsi); Black-knobbed map turtle (G. nigrinoda); Ringed map turtle (G. oculifera); Ouachita map turtle (G. ouachitensis); Pearl River map turtle (G. pearlensis); False map turtle (G. pseudogeographica); Alabama map turtle (G. pulchra); Texas map turtle (G. versa)—Transfer from Appendix III to Appendix II

14. Chinese softshell turtle (Pelodiscus sinensis)—Inclusion in Appendix II

15. Alligator snapping turtle (Macrochelys temminckii)—Transfer from Appendix III to Appendix II

Mammals

16. Cape fur seal (Arctocephalus pusillus)—Transfer to Appendix I

17. White rhinoceros (Ceratotherium simum)—Inclusion of the entire species in Appendix I

18. African elephant (Loxodonta africana)—Inclusion of the entire species in Appendix I

19. Walrus (Odobenus rosmarus)—Inclusion in Appendix I

Future Actions

As stated above, the next regular meeting of the Conference of the Parties (CoP17) is scheduled to be held in South Africa, September 24 to October 5, 2016. The United States must submit any proposals to amend Appendix I or II, or any draft resolutions, decisions, or agenda items for discussion at CoP17, to the CITES Secretariat 150 days (April 27, 2016) prior to the start of the meeting. In order to meet this deadline and to prepare for CoP17, we have developed a tentative U.S. schedule. Approximately 12 months prior to CoP17, we plan to publish a Federal Register notice announcing draft resolutions, draft decisions, and agenda items the United States is considering submitting for CoP17 and soliciting further information and comments on them. Approximately 4 months prior to CoP17, we will post on our Web site an announcement of the species proposals, draft resolutions, draft decisions, and agenda items submitted by the United States to the CITES Secretariat for consideration at CoP17.

Through a series of additional notices and Web site postings in advance of CoP17, we will inform you about preliminary negotiating positions on resolutions, decisions, and amendments to the Appendices proposed by other Parties for consideration at CoP17. We will also publish an announcement of a public meeting to be held approximately 3 months prior to CoP17. That meeting will enable us to receive public input on our positions regarding CoP17 issues. The procedures for developing U.S. documents and negotiating positions for a meeting of the Conference of the Parties to CITES are outlined in 50 CFR 23.87. As noted in paragraph (c) of that section, we may modify or suspend the procedures outlined there if they would interfere with the timely or appropriate development of documents for submission to the CoP and of U.S. negotiating positions.

Author

The primary author of this notice is Patricia De Angelis, Ph.D., Division of Scientific Authority, U.S. Fish and Wildlife Service.

Authority

The authority for this action is the Endangered Species Act of 1973, as amended (16 U.S.C. 1531 et seq.).

Dated: August 17, 2015.
Daniel M. Ashe,
Director, U.S. Fish and Wildlife Service.

[FR Doc. 2015-21033 Filed 8-24-15; 12:00 pm]

BILLING CODE 4310-55-P